DEPARTMENT OF TRANSPORTATION

National Highway Traffic Safety Administration

Reports, Forms and Recordkeeping Requirements; Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on December 1, 2005 in Volume 70, Number 230 on pages 72145-72146.

DATES: Comments must be submitted on or before 30 days from the date of publication of this notice.

FOR FURTHER INFORMATION CONTACT: Donna Glassbrenner, PhD, at the National Highway Traffic Safety Administration, Mathematical Analysis Division, NPO-121, 400 Seventh Street, SW., Room 6125, Washington, DC 20590. Dr. Glassbrenner can also be reached at (202) 366-3962.

SUPPLEMENTARY INFORMATION:

National Highway Traffic Safety Administration

Title: National Survey of the Use of Booster Seats.

OMB Number: 2127-0644.

Type of Request: 3-year extension of approval for information collection.

Abstract: The National Survey of the Use of Booster Seats is being conducted to respond to the Section 14(i) of the Transportation Recall Enhancement, Accountability, and Documentation (TREAD) Act of 2000. The Act directs the Department of Transportation to reduce the deaths and injuries among children in the 4-to-8 year old age group that are caused by failure to use a booster seat by 25 percent. Conducting the National Survey of the Use of Booster Seats will provide the Department with invaluable information on who is and is not using booster seats, helping the Department better direct its outreach programs to ensure that children are protected to the greatest degree possible when they ride in motor vehicles. The OMB approval for this survey is scheduled to expire on March 31, 2006. NHTSA seeks an extension to this approval in order to continue to obtain this important survey data, saving more children and helping to comply with the TREAD Act requirement.

Affected Public: Motorists in passenger vehicles at gas stations, fast food restaurants, and other types of sites frequented by children during the time in which the survey is conducted.

Estimated Total Annual Burden: 320 hours.

Number of Respondents: Approximately 4,800 adult motorists will respond to survey questions about the children in their vehicle.

ADDRESSES: Send comments within 30 days to the Office of Information and Regulatory Affairs, Office of Management and Budget, 725-17th Street, NW., Washington, DC 20503, Attention: NHTSA Desk Officer.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of publication.

Issued in Washington, DC, February 2006.
Joseph Carra,
Associate Administrator for the National Center for Statistics and Analysis, NHTSA.

[FR Doc. 06-1360 Filed 2-13-06; 8:45 am]

BILLING CODE 4910-59-P